DEPARTMENT OF HEALTH AND HUMAN SERVICES

Centers for Medicare & Medicaid Services

42 CFR Chapter IV

[CMS-2324-N]

Coordinating Care From Out-of-State Providers for Medicaid-Eligible Children With Medically Complex Conditions; Reopening of Comment Period

AGENCY: Centers for Medicare & Medicaid Services (CMS), HHS.

ACTION: Notice; reopening of comment period.

SUMMARY: This document reopens the comment period for the January 21, 2020 request for information entitled “Coordinating Care From Out-of-State Providers for Medicaid-Eligible Children With Medically Complex Conditions”. That document requested information (RFI) to seek public comments regarding the coordination of care from out-of-state providers for Medicaid-eligible children with medically complex conditions. We wish to identify best practices for using out-of-state providers to provide care to children with medically complex conditions; determine how care is coordinated for such children when that care is provided by out-of-state providers, including when care is provided in emergency and nonemergency situations; reduce barriers that prevent such children from receiving care from out-of-state providers in a timely fashion; and identify processes for screening and enrolling out-of-state providers in Medicaid, including efforts to streamline such processes for out-of-state providers or to reduce the burden of such processes on them. We intend to use the information received in response to the RFI to issue guidance to state Medicaid directors on the coordination of care from out-of-state providers for children with medically complex conditions. The comment period for the RFI, which ended on March 23, 2020, is reopened for 30 days from the date of publication of this notice.

DATES: The comment period for the RFI published on January 21, 2020, at 85 FR 3330, is reopened. Comments will be accepted until 5 p.m., eastern daylight time, on June 3, 2020.

ADDRESSES: You may submit comments as outlined in the January 21, 2020 RFI (85 FR 3330). Please choose only one method listed.

FOR FURTHER INFORMATION CONTACT: Nicole Gillette-Payne, (212) 616-2465.

SUPPLEMENTARY INFORMATION: In the “Coordinating Care From Out-of-State Providers for Medicaid-Eligible Children With Medically Complex Conditions” request for information (referred to in this document as the RFI) that appeared in the January 21, 2020 Federal Register (85 FR 3330), CMS requested public comments regarding the coordination of care from out-of-state providers for Medicaid-eligible children with medically complex conditions. We wish to identify best practices for using out of-state providers to provide care to children with medically complex conditions; determine how care is coordinated for such children when that care is provided by out-of-state providers, including when care is provided in emergency and nonemergency situations; reduce barriers that prevent such children from receiving care from out-of-state providers in a timely fashion; and identify processes for screening and enrolling out-of-state providers in Medicaid, including efforts to streamline such processes for out-of-state providers or to reduce the burden of such processes on them.

Since the issuance of the RFI, the COVID-19 global pandemic has affected many businesses and individuals and impacted healthcare systems. Responding to the public health emergency has been a priority for many of the stakeholders whose input we value. In addition, some stakeholders have reached out to request additional time to consider their recommendations related to this RFI. To maximize the opportunity for the public to provide meaningful input to CMS on the various topics raised in the RFI, we believe that it is important to allow additional time for the public to prepare comments on the RFI. We believe that reopening the public comment period in this instance would further our overall objective to obtain public input. Therefore, we are reopening the comment period for the RFI for an additional 30 days from the date of publication of this notice.

The Administrator of the Centers for Medicare & Medicaid Services (CMS), Seema Verma, having reviewed and approved this document, authorizes Evell J. Barco Holland, who is the Federal Register Liaison, to electronically sign this document for purposes of publication in the Federal Register.

Dated: April 28, 2020.
Evell J. Barco Holland,
Federal Register Liaison, Department of Health and Human Services.

[FR Doc. 2020-09392 Filed 5-1-20; 8:45 am]

BILLING CODE 4120-01-P